CHEMICAL SAFETY AND HAZARD INVESTIGATION BOARD

Sunshine Act Meeting

The United States Chemical Safety and Hazard Investigation Board announces that it will convene a Public Meeting beginning at 10 a.m. local time on April 17, 2002, at 2175 K Street, Suite 400 Conference Room. Topics will include:

1. Update on reactive chemical hazard investigation

2. Update on CSB investigation into a fatal explosion at the BP Amoco Polymers plant in Augusta, Georgia on March 13, 2001, that killed three workers

3. Close out of CSB recommendations

4. Update on CSB budget proposal for FY 2003

5. Update on Fiscal Audit of CSB

6. Review of CSB performance goals for FY 2002

7. Update on Chief Operating Officer position filling process

8. Review of CSB management initiatives and recommendations made by CSB's Office of Inspector General

• Request for opinion from Department of Justice regarding designation of Acting Chairperson

• Publication of proposed rule implementing Sunshine Act

• Discussion of proposal to Office of Personnel and Management regarding Schedule A hiring initiatives

• Interim Outreach Proposal

9. Tentative date for next Board Meeting

The meeting will be open to the public. Please notify CSB if a translator or interpreter is needed, 10 business days prior to the public meeting. For more information, please contact the Chemical Safety and Hazard Investigation Board's Office of Congressional and Public Affairs, (202)-261-7600, or visit our website at: www.csb.gov.

Christopher W. Warner,
General Counsel.

[FR Doc. 02-8438 Filed 4-3-02; 2:12 pm]

BILLING CODE 6350-01-P